DEPARTMENT OF ENERGY

Federal Energy Regulatory Commission

[Project No. 12646-001—Oklahoma]

City of Broken Bow, OK; Pine Creek Lake Dam Hydroelectric Project; Notice of Revised Restricted Service List for a Programmatic Agreement for Managing Properties Included in or Eligible for Inclusion in the National Register of Historic Places

January 28, 2009.

On November 17, 2008, the Federal Energy Regulatory Commission (Commission) issued notice of a proposed restricted service list for the preparation of a programmatic agreement for managing properties included in, or eligible for inclusion in, the National Register of Historic Places at the Pine Creek Lake Dam Hydroelectric Project No. 126468. Rule 2010(d)(1) of the Commission's Rules of Practice and Procedure, 18 CFR 2010(d)(1) (2005), provides for the establishment of such a list for a particular phase or issue in a proceeding to eliminate unnecessary expense or improve administrative efficiency. Under Rule 2010(d)(4), persons on the official service list are to be given notice of any proposal to establish a restricted service list and an opportunity to show why they should also be included on the restricted service list or why a restricted service list should not be established.

On January 23, 2009, Willard B. Smith, consulting engineer for the applicant, responded to the notice, requesting to be included in the restricted service list. Under Rule 2010(d)(2), any restricted service list will contain the names of each person on the official service list, or the person's representative, who, in the judgment of the decisional authority establishing the list, is an active participant with respect to the phase or issue in the proceeding for which the list is established. Mr. Smith, as the applicant's consultant, has an identifiable interest in issues as they relate to the management of historic properties at the Pine Creek Lake Dam Project. Therefore, he will be added to the restrictive service list.

Accordingly, the restricted service list issued on November 17, 2008, for the Pine Creek Lake Dam Project No. 126468 is revised to add the following person: Willard B. Smith, P.E., CFM, HISINC, L.L.C., 28508 W. 41st Street South, Mannford, OK 74044.

Kimberly D. Bose,
Secretary.

[FR Doc. E9-2289 Filed 2-3-09; 8:45 am]

BILLING CODE 6717-01-P